DEPARTMENT OF LABOR

Mine Safety and Health Administration

DEPARTMENT OF HEALTH AND HUMAN SERVICES

Centers for Disease Control and Prevention

30 CFR Part 72

RIN 1219-AB18

Determination of Concentration of Respirable Coal Mine Dust

AGENCY: Mine Safety and Health Administration (MSHA), Labor.

ACTION: Extension of comment periods.

SUMMARY: We are extending the periods for public and post-hearing comment on the notices reopening the comment period and announcing public hearings on the Determination of Concentration of Respirable Coal Mine Dust (Single Sample), published in the Federal Register on March 6, 2003 and on March 17, 2003, respectively.

DATES: We must receive your comments by July 3, 2003.

ADDRESSES: You may use mail, facsimile (fax), or electronic mail to send us your comments. Clearly identify them as comments and send them (1) by mail to MSHA, Office of Standards, Regulations, and Variances, 1100 Wilson Blvd., Room 2313, Arlington, Virginia 22209-3939; (2) by fax to (202) 693-9441; or (3) by electronic mail to: comments@msha.gov.

FOR FURTHER INFORMATION CONTACT: Marvin W. Nichols, Jr., Director, Office of Standards, Regulations and Variances, MSHA; phone: (202) 693-9440; facsimile: (202) 693-9441; e-mail: nichols-marvin@msha.gov.

SUPPLEMENTARY INFORMATION:

I. Background

On March 6, 2003, (68 FR 10940), the Secretaries of Labor and Health and Human Services published a notice, “Determination of Concentration of Respirable Coal Mine Dust (Single Sample),” reopening the rulemaking record on a July 7, 2000 joint proposed rule that would determine that the average concentration of respirable dust to which each miner in the active workings of a coal mine is exposed can be accurately measured over a single shift. In that proposed rule the Secretaries proposed to rescind a previous 1972 finding by the Secretary of the Interior and the Secretary of Health, Education and Welfare, on the accuracy of single shift sampling (63 FR 42068).

II. Extension of Comment Periods

The comment periods for the reopening of the Single Sample rule were scheduled to close on June 4, 2003 (68 FR 10940, 68 FR 12641). However, in response to requests from the public for additional time to prepare their comments, the comment periods have been extended 30 days until July 3, 2003. All comments must be submitted to MSHA by this date.

Dated: May 15, 2003.
Elaine L. Chao,
Secretary of Labor.
Dated: May 23, 2003.
Tommy G. Thompson,
Secretary, Department of Health and Human Services.

[FR Doc. 03-13441 Filed 5-28-03; 8:45 am]

BILLING CODE 4510-43-P; 4163-70-P